DEPARTMENT OF ENERGY

Federal Energy Regulatory Commission

[Docket No. CP05-56-000]

Williston Basin Interstate Pipeline Company; Notice of Request Under Blanket Authorization

February 2, 2005.

Take notice that on January 26, 2005, Williston Basin Interstate Pipeline Company (Williston Basin), filed in Docket No. CP05-56-000, an application pursuant to §§ 157.205 and 157.211 (a) (2) of the Commission's Regulations under the Natural Gas Act (NGA) as amended, and pursuant to Williston Basin's blanket certificate authorization granted in Docket No. CP82-487-000, et al., for the construction and operation of a new delivery point in Yellowstone County, Montana to serve ConocoPhillips Company (ConocoPhillips), all as more fully set forth in the application which is on file with the Commission and open to public inspection.

Williston Basin explains that ConocoPhillips has requested the proposed delivery point to accommodate firm and interruptible transportation deliveries for use at its oil refinery in Yellowstone County, Montana, since existing facilities providing natural gas service to its plant are not adequate to serve future needs. Williston Basin states that the estimated cost to construct the proposed delivery point facilities is approximately $108,500. Any questions regarding the application should be directed to Keith A. Tiggelaar, Director of Regulatory Affairs, Williston Basin Interstate Pipeline Company, 1250 West Century Avenue, Bismarck, North Dakota 58503, (701) 530-1560 (e-mail keith.tiggelaar@wbip.com).

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866)206-3676, or, for TTY, contact (202)502-8659. Comments, protests and interventions may be filed electronically via the Internet in lieu of paper. See, 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 385.214) a motion to intervene or notice of intervention and pursuant to § 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to section 7 of the Natural Gas Act.

Comment Date: February 23, 2005.

Magalie R. Salas,
Secretary.

[FR Doc. E5-517 Filed 2-8-05; 8:45 am]

BILLING CODE 6717-01-P